DEPARTMENT OF THE INTERIOR

[AK-910-1310-DB-NSSI-241A]

North Slope Science Initiative Science Technical Advisory Panel: Notice of Intent To Renew Charter and Call for Nominations

AGENCY: Bureau of Land Management (BLM), Interior.

ACTION: Notice of intent to renew and call for nominations for the North Slope Science Initiative Science Technical Advisory Panel.

SUMMARY: This notice announces the renewal of the North Slope Science Initiative Science Technical Advisory Panel (Science Panel) by the Secretary of the Interior (Secretary) and calls for nominations to serve on the Science Technical Advisory Panel in accordance with the provisions of the Federal Advisory Committee Act (FACA) of 1972, 5 U.S.C. Appendix. A copy of the renewed Science Panel charter will be filed with the appropriate committees of Congress and the Library of Congress in accordance with Section 9(c) of FACA.

DATES: Submit a completed nomination form and nomination letters to the address listed below no later than January 17, 2008.

FOR FURTHER INFORMATION CONTACT: John F. Payne, Ph.D., Executive Director, North Slope Science Initiative (AK-910), c/o Bureau of Land Management; 222 W. Seventh Ave., #13; Anchorage, AK 99513, telephone (907) 271-3431.

SUPPLEMENTARY INFORMATION: The purpose of the Science Panel is to advise the North Slope Science Initiative (NSSI) Oversight Group on issues such as identifying and prioritizing inventory, monitoring and research needs, and providing other scientific advice as requested by the Oversight Group. The Oversight Group consists of the Alaska Regional Directors of the Fish and Wildlife Service, Minerals Management Service, National Park Service, Geological Survey, and National Marine Fisheries Service; the BLM-Alaska State Director; The Commissioners of the Alaska Department of Natural Resources and the Department of Fish and Game; the Mayor of the North Slope Borough; and the President of the Arctic Slope Regional Corporation. Advisory entities to the Oversight Group include the U.S. Department of Energy and the U.S. Arctic Research Commission.

The Science Panel shall consist of a representative group of not more than 15 scientists and technical experts from diverse professions and interests, including the oil and gas industry, subsistence users, Alaska Native entities, conservation organizations, wildlife management organizations, and academia, as determined by the Secretary. The members will be selected from among, but not limited to, the following disciplines: North Slope traditional and local knowledge, landscape ecology, petroleum engineering, civil engineering, geology, botany, hydrology, limnology, habitat biology, wildlife biology, biometrics, sociology, cultural anthropology, economics, ornithology, oceanography, fisheries biology, and climatology.

The duties of the Science Panel are solely advisory to the Oversight Group, which will give direction to the Science Panel regarding priorities for decisions needed for the Department of the Interior's management. Duties could include the following:

a. Advise the Oversight Group on science planning and relevant research and monitoring projects;

b. Advise the Oversight Group on scientific information relevant to the Oversight Group's mission;

c. Review selected reports to advise the Oversight Group on their content and relevance;

d. Review ongoing scientific programs of NSSI member organizations on the North Slope at the request of the member organizations to promote compatibility in methodologies and compilation of data;

e. Advise the Oversight Group on how to ensure that scientific products generated through NSSI activities are of the highest technical quality;

f. Periodically review the North Slope Science Plan and provide recommendations for changes to the Oversight Group;

g. Provide recommendations for proposed NSSI-funded inventory, monitoring and research activities to the Oversight Group;

h. Provide other scientific advice as requested by the Oversight Group; and

i. Coordinate with groups and committees appointed or requested by the Oversight Group to provide science advice, as needed.

The Executive Director for the NSSI shall serve as the Designated Federal Officer for the Science Panel. Specifically, the membership will consist of professionals with advanced degrees and a minimum of five years of work experience in their field in Alaska, preferably in the North Slope region. Professionals will be selected from among those disciplines and entities described above. Any individual or organization may nominate one or more persons to serve on the Science Panel. Members will be appointed for three-year terms. At the discretion of the Secretary of the Interior, Science Panel members may be reappointed indefinitely.

Individuals may nominate themselves to the Science Panel. You may obtain nomination forms from the Executive Director, NSSI (see address above), or from www.northslope.org. To make a nomination, you must submit a completed nomination form with a letter of reference that describes the nominee's qualifications to serve on the Science Panel. The professional discipline the nominee would like to represent should be identified in the letter of nomination and in the nomination form. Nominees may be scientists and technical experts from diverse professions and interests, including the oil and gas industry, subsistence users, Alaska Native entities, conservation organizations, wildlife management organizations, and academia. Nominees selected to serve on the Science Panel will serve only in their professional capacity and will not serve to represent any group, agency or entity with whom they may be affiliated.

The Executive Director shall collect the nomination forms and letters of reference and distribute them to the Oversight Group for the NSSI. The Oversight Group will submit their recommendations through the BLM to the Secretary of the Interior who has responsibility for making the appointments.

Members on the Science Panel will serve without monetary compensation. Members will be reimbursed for travel and per diem expenses at current rates for Government employees.

Certification

I hereby certify that the establishment of the Science Technical Advisory Panel for the NSSI is necessary and in the public interest in connection with the Secretary of the Interior's responsibilities to manage the lands, resources and facilities by the Department of the Interior, and in compliance with Section 348, Energy Policy Act of 2005 (Pub. L. 109-58).

Dated: November 8, 2007.
Thomas P. Lonnie,
State Director, Alaska.

[FR Doc. E7-23347 Filed 11-30-07; 8:45 am]

BILLING CODE 4310-JA-P